SMALL BUSINESS ADMINISTRATION

[Disaster Declaration #12188 and #12189]

Mississippi Disaster Number MS-00039

AGENCY: Small Business Administration.

ACTION: Amendment 2.

SUMMARY: This is an amendment of the Presidential declaration of a major disaster for Public Assistance Only for the State of Mississippi (FEMA-1916-DR), dated 05/14/2010.

Incident: Severe Storms, Tornadoes, and Flooding.

Incident Period: 05/01/2010 through 05/02/2010.

Effective Date: 05/28/2010.

Physical Loan Application Deadline Date: 07/13/2010.

Economic Injury (EIDL) Loan Application Deadline Date: 02/14/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Mississippi, dated 05/14/2010, is hereby amended to include the following areas as adversely affected by the disaster.

Primary Counties: Panola.

All other information in the original declaration remains unchanged.

(Catalog of Federal Domestic Assistance Numbers 59002 and 59008)

James E. Rivera,
Associate Administrator for Disaster Assistance.

[FR Doc. 2010-13750 Filed 6-8-10; 8:45 am]

BILLING CODE 8025-01-P